DEPARTMENT OF THE INTERIOR

Bureau of Land Management

[BLM_CA_FRN_MO4500169178]

Meetings of the California Desert District Advisory Council

AGENCY: Bureau of Land Management, Interior.

ACTION: Notice of public meetings.

SUMMARY: In accordance with the Federal Land Policy and Management Act of 1976 and the Federal Advisory Committee Act of 1972, the U.S. Department of the Interior, Bureau of Land Management (BLM) California Desert District Advisory Council (Council) will meet as indicated below.

DATES: The 2023 schedule of meetings for the Desert District Advisory Council is as follows: April 14-15; August 25-26; and December 8-9. The Council will participate in field tours of BLM-managed public lands on Friday, April 14; Friday, Aug. 26; and Friday Dec. 8, and will meet in formal session on each following Saturday. Field tours will begin at 10 a.m. and conclude at 4 p.m. Each Saturday meeting will start at 9 a.m. and conclude at 3:30 p.m. The meetings will be held in-person with a virtual participation option available on the Zoom platform. All Council meetings and field tours are open to the public.

If the COVID-19 protocols are reinstated and in-person meetings are prohibited, the field tours will be cancelled, and the meetings will be held virtually.

ADDRESSES: The agendas and locations for the public meetings and field tours will be posted on the BLM web page at: https://www.blm.gov/get-involved/rac/california/california-desert-district at least 2 weeks in advance of the meetings. Field tour participants must register to attend 7 days in advance.

Written comments for the Council may be sent electronically in advance of the scheduled meetings to Public Affairs Officer Michelle Van Der Linden at mvanderlinden@blm.gov and Public Affairs Officer Kate Miyamoto at kmiyamoto@blm.gov or in writing to BLM, California Desert District/Public Affairs, 1201 Bird Center Drive, Palm Springs, CA 92262. Written comments will also be accepted at the time of the public meetings.

FOR FURTHER INFORMATION CONTACT: Michelle Van Der Linden, BLM California Desert District Office, telephone: (951) 567-1531, email: mvanderlinden@blm.gov or Kate Miyamoto, BLM California Desert District Office, telephone: (760) 883-8528, email: kmiyamoto@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Council provides recommendations to the Secretary of the Interior concerning the planning and management of the public land resources within the BLM's California Desert District and offers advice on the implementation of the comprehensive, long-range plan for management, use, development, and protection of the public lands within the California Desert Conservation Area. Agenda topics for the April meeting include presentations on the Desert Discovery Center, King of the Hammers and other special recreation permits, Barstow Field Office business plan, and overviews from the district, field offices, and fire program. Agenda topics for the August meeting include presentations on the implementation of the Durability Agreement between the BLM and California Department of Fish and Wildlife for conservation measures in the California Desert, wild horse and burro program, Ridgecrest Regional Wild Horse and Burro Corrals, off-highway vehicle third-party monitoring, and overviews from the district, field offices, and fire program. Agenda topics for the December meeting include presentations on mountain bike issues in the Palm Springs-South Coast Field Office, off-highway vehicle areas in the Palm Springs-South Coast Field Office, updates on monument planning for Sand to Snow National Monument, and district, field office, and fire program overviews.

If attending a field tour, the public must provide their own transportation, meals, and beverages. Members of the public will have the opportunity to make public comments at 1:45 p.m. during the public comment portion of each meeting. While each of the meetings are scheduled from 9 a.m. to 3:30 p.m., any of the meetings could end prior to 3:30 p.m. should the Council conclude its business. Therefore, members of the public interested in a specific agenda item or discussion should schedule their arrival accordingly.

Before including your address, phone number, email address, or other personal identifying information in your comment, be aware that your entire comment—including your personal identifying information—may be made publicly available at any time. While you can ask us in your comment to withhold your personal identifying information from public review, we cannot guarantee that we will be able to do so.

Meeting Accessibility/Special Accommodations: Please make requests in advance for sign language interpreter services, assistive listening devices, or other reasonable accommodations. Contact the person listed in the FOR FURTHER INFORMATION CONTACT section of this notice at least 7 business days prior to the meeting to give the Department of the Interior sufficient time to process your request. All reasonable accommodation requests are managed on a case-by-case basis.

(Authority: 43 CFR 1784.4-2)

Michelle Lynch,
California Desert District Manager.

[FR Doc. 2023-06375 Filed 3-27-23; 8:45 am]

BILLING CODE 4331-15-P